DEPARTMENT OF THE INTERIOR

Fish and Wildlife Service

50 CFR Part 80

[Docket No. FWS-HQ-WSR-2014-0040; FVWF941009000007B-XXX-FF09W11000]

RIN 1018-BA56

Financial Assistance: Wildlife Restoration, Sport Fish Restoration, Hunter Education and Safety; Correction

AGENCY: Fish and Wildlife Service, Interior.

ACTION: Final rule; technical amendment.

SUMMARY: The Fish and Wildlife Service published a final rule in the Federal Register on August 1, 2011 (76 FR 46150). We included in this final rule a combined symbol to use when referring to both the Wildlife Restoration and the Sport Fish Restoration programs together. The language around the symbol is in reverse order, and this document corrects the error.

DATES: Effective September 12, 2014.

FOR FURTHER INFORMATION CONTACT: Lisa E. Van Alstyne, Wildlife and Sport Fish Restoration Program, Division of Policy and Programs, U.S. Fish and Wildlife Service, 703-358-1942.

SUPPLEMENTARY INFORMATION:

Background

Symbols were added to the regulations governing the Wildlife Restoration and Sport Fish Restoration (WSFR) programs through regulations published December 15, 1987 (52 FR 47571). One symbol represents the Wildlife Restoration Program, one represents the Sport Fish Restoration Program, and one represents the combined programs. The language in the combined symbol reads “Sport Fish and Wildlife Restoration.” The symbols have remained the same since originally published.

Need for Correction

At the time the symbol was first developed, the program within the Service that administers these grant programs was called “Division of Federal Aid.” Since then, we have changed our name to the “Wildlife and Sport Fish Restoration Program.” The order of programs reflects that the Wildlife Restoration Program was authorized prior to the Sport Fish Restoration Program. It has been many years since we have changed our name, and referencing WSFR is now common. Having the combined symbol read “Sport Fish and Wildlife Restoration” is confusing to States who implement projects with WSFR funding; manufacturers who contribute millions of dollars through excise taxes, boater fuel and electric motor taxes, and import duties that contribute to the Wildlife Restoration Account and the Sport Fish Restoration and Boating Trust Fund; and interested stakeholders.

In 2011, we completed a comprehensive review and update to 50 CFR part 80 (76 FR 46150, August 1, 2011). We neglected to correct the symbol to reflect the current name of the WSFR program and now correct this error.

If a State or other entity is using the former combined symbol on signs, print media, or other physical items to identify WSFR or WSFR-funded projects, they should continue to use those items until quantities are exhausted or they are normally replaced. The new combined symbol may be used immediately for electronic updates or new signs, print media, or other physical items. If you have questions on the appropriate use of the combined symbol, contact the person listed under FOR FURTHER INFORMATION CONTACT, above.

List of Subjects in 50 CFR Part 80

Fish, Grant programs—natural resources, Reporting and recordkeeping requirements, Signs and symbols, Wildlife.

Regulation Promulgation

Accordingly, we amend 50 CFR part 80 as follows:

PART 80—ADMINISTRATIVE REQUIREMENTS, PITTMAN-ROBERTSON WILDLIFE RESTORATION AND DINGELL-JOHNSON SPORT FISH RESTORATION ACTS

1. The authority citation for 50 CFR 80 continues to read as follows:

Authority: 16 U.S.C. 669-669k; 16 U.S.C. 777-777n, except 777e-1 and g-1.

2. Amend § 80.99 by revising paragraph (c) to read as follows:

§ 80.99 Are symbols available to identify projects?

* * * * *

(c) The symbol of the Acts when used in combination follows:

Dated: August 29, 2014.
Michael J. Bean,
Principal Deputy Assistant Secretary for Fish and Wildlife and Parks.

[FR Doc. 2014-21824 Filed 9-11-14; 8:45 am]

BILLING CODE 4310-55-P